SMALL BUSINESS ADMINISTRATION

Region X Regulatory Fairness Board; Public Federal Regulatory Enforcement Fairness Roundtable

The Small Business Administration Region X Regulatory Fairness Board and the SBA Office of the National Ombudsman will hold a Public Roundtable on Thursday, July 10, 2003 at 10 a.m. at the Boise Metro Chamber of Commerce, 250 S. 5th Street, Boise, ID 83701, to provide small business owners and representatives of trade associations with an opportunity to share information concerning the federal regulatory enforcement and compliance environment.

Anyone wishing to attend or to make a presentation must contact Irene Gonzalez in writing or by fax, in order to be put on the agenda. Irene Gonzalez, U.S. Small Business Administration, Boise District Office, 1020 Main Street, Suite 290, Boise, ID 83702, phone (208) 334-1696 ext. 249, fax (208) 334-9353, e-mail: irene.gonzalez@sba.gov.

For more information, see our Web site at http://www.sba.gov/ombudsman.

Dated: June 23, 2003.
Michael L. Barrera,
National Ombudsman.

[FR Doc. 03-16392 Filed 6-27-03; 8:45 am]

BILLING CODE 8025-01-P